DEPARTMENT OF THE INTERIOR

Bureau of Land Management

[LLNVS0100.L51010000.ER0000.LVRWF09F8770; NVN-085077 and NVN-085801; 09-08807; TAS: 14X5017]

Notice of Intent To Prepare an Environmental Impact Statement for the Proposed NextLight Renewable Power, LLC, Silver State North Solar Project and Silver State South Solar Project, Primm, NV

AGENCY: Bureau of Land Management, Interior.

ACTION: Notice of intent.

SUMMARY: In compliance with the National Environmental Policy Act of 1969, as amended (NEPA), the Bureau of Land Management (BLM), Las Vegas Field Office, will prepare one environmental impact statement (EIS) for two proposed solar energy projects located on public lands in Clark County, Nevada. Publication of this notice initiates the beginning of the scoping process to solicit public comments and identify issues.

DATES: This notice initiates the public scoping process. Comments on issues may be submitted in writing until July 30, 2009. The date(s) and location(s) of any scoping meetings will be announced at least 15 days in advance through local news media and the BLM Web site at: http://www.blm.gov/nv/st/en/fo/lvfo.html.

ADDRESSES: Submit comments related to the project by any of the following methods:

• E-mail: Nextlight_Primm_NV_SEP@blm.gov

• Fax: (702) 515-5010, attention Gregory Helseth.

• Mail: BLM, Las Vegas Field Office, Attn: Gregory Helseth, 4701 North Torrey Pines Drive, Las Vegas, NV 89130-2301.

FOR FURTHER INFORMATION CONTACT: For further information and/or to have your name added to the mailing list, contact Gregory Helseth, Renewable Energy Project Manager, at (702) 515-5173; or e-mail at Nextlight_Primm_NV_SEP@blm.gov.

SUPPLEMENTARY INFORMATION: NextLight Renewable Power, LLC, has submitted two applications for rights-of-way for the construction, operation, maintenance, and termination of two solar energy generation sites. The two applications are identified as NVN-085077 Silver State South Solar Project, and NVN-085801 Silver State North Solar Project. The proposed projects would consist of photovoltaic panels and related right-of-way appurtenances, including a substation and switchyard facilities. The proposed projects, combined, would produce approximately 400 megawatts of electricity, and would be located on approximately 7,840 acres of public lands east of Primm, Nevada.

Issues that are anticipated to be addressed in this EIS include threatened and endangered species impacts, visual impacts, socioeconomic impacts, and cumulative impacts. The EIS will analyze the site-specific impacts on air quality, biological resources, cultural resources, water resources, geological resources and hazards, hazardous materials handling, land and airspace use, noise, paleontological resources, public health, socioeconomics, soils, traffic and transportation, visual resources, waste management, worker safety, and fire protection, as well as facility design engineering, efficiency, reliability, transmission system engineering, transmission line safety, and nuisance. Native American Tribal consultations will be conducted in accordance with policy, and Tribal concerns will be given due consideration, including impacts on Indian trust assets. Federal, State, and local agencies, as well as individuals or organizations that may be interested in or affected by the BLM's decision on this project are invited to participate in the scoping process and, if eligible, may request or be requested by the BLM to participate as a cooperating agency.

Documents pertinent to this project may be examined at the Las Vegas Field Office. Additional opportunities for public participation will be provided upon publication of the draft EIS.

Before including your address, phone number, e-mail address, or other personal identifying information in your comment, you should be aware that your entire comment—including your personal identifying information—may be made publicly available at any time. While you can ask us in your comment to withhold your personal identifying information from public review, we cannot guarantee that we will be able to do so.

(Authority: 43 CFR Part 2800)

Robert B. Ross Jr.,
Las Vegas Field Manager.

[FR Doc. E9-15470 Filed 6-29-09; 8:45 am]

BILLING CODE 4310-HC-P